DEPARTMENT OF ENERGY

Federal Energy Regulatory Commission

[Docket No. ER03-552-005, et al.]

New York Independent System Operator, Inc., et al.; Electric Rate and Corporate Filings

October 29, 2003.

The following filings have been made with the Commission. The filings are listed in ascending order within each docket classification.

1. New York Independent System Operator, Inc.

[Docket Nos. ER03-552-005 and ER03-984-003]

Take notice that on October 23, 2003, the New York Independent System Operator, Inc. (NYISO) tendered for filing a compliance filing in connection with the Commission's September 22, 2003, Order in Docket No. ER03-552-000, et al.

NYISO states that it has served a copy of this filing to all parties listed on the official service list maintained by the Secretary of the Commission in these proceedings and to all parties that have executed Service Agreements under the NYISO's Open-Access Transmission Tariff or Services Tariff, the New York State Public Service Commission and to the electric utility regulatory agencies in New Jersey and Pennsylvania.

Comment Date: November 13, 2003.

2. PJM Interconnection, L.L.C.

[Docket No. ER03-1117-001]

Take notice that on October 23, 2003, PJM Interconnection, L.L.C. (PJM) in compliance with the Commission's Order, 104 FERC ¶61,321 submitted an explanation justifying the inclusion of the risk profile component in the proposed Default Allocation Assessment formula contained in amendments to the Amended and Restated Operating Agreement of PJM Interconnection, L.L.C., filed July 25, 2003, in Docket No. ER03-1117-000.

PJM states that copies of this filing have been served on each person designated on the official service list.

Comment Date: November 13, 2003.

3. NorthWestern Energy

Docket Nos. ER03-1188-001, ER03-1189-001, ER03-1190-001, ER03-1191-001, ER03-1192-001, ER03-1193-001, ER03-1194-001, and ER03-1195-001]

Take notice that on October 23, 2003, NorthWestern Energy, a division of NorthWestern Corporation (NorthWestern), submitted its filing to comply with the Order of the Director, Division of Tariffs and Market Development—Central issued on September 23, 2003. The compliance filing contains the designation cover sheets required by Order No. 614.

Comment Date: November 13, 2003.

4. Ameren Services Company

[Docket No. ER03-1280-001]

Take notice that on October 23, 2003, Ameren Services Company (ASC) tendered for filing a revised unexecuted Network Integration Transmission Service and Network Operating Agreement between ASC and Citizens Electric Corporation to replace the unexecuted Agreement in Docket No. ER03-1280-000 filed on September 2, 2003.

Comment Date: November 13, 2003.

5. Chanarambie Power Partners LLC

[Docket No. ER03-1340-001]

Take notice that on October 23, 2003, Chanarambie Power Partners LLC filed a revision to its Rate Schedule FERC No. 1 to provide the rate schedule designation information required by FERC's Order No. 614 and to reflect the requested effective date of its rate schedule.

Comment Date: November 13, 2003.

6. Entergy-Koch Trading, LP

[Docket No. ER01-2781-001]

Take notice that on August 29, 2003, Entergy-Koch Trading, LP (EKT), submitted for filing a Notification of a non-material change in the characteristics that the Commission relied upon in granting EKT Market-based rate authority under section 205 of the Federal Power Act.

Comment Date: November 7, 2003.

7. Midwest Independent Transmission System Operator, Inc.

[Docket No. ER04-66-000]

Take notice that on October 23, 2003, the Midwest Independent Transmission System Operator, Inc. (Midwest ISO) submitted for filing a Notice of Succession of certain Network Integration Transmission Service and Operating Agreements entered into by and between Northern Indiana Public Service Company (NIPSCO) and various transmission customers.

The Midwest ISO has requested waiver of the sixty-day effective date and has requested an effective date of October 1, 2003, the date the provision of transmission services across the transmission facilities of NIPSCO under the various ongoing Network Integration Transmission Service and Operating Agreements commenced under the Midwest ISO OATT.

Midwest ISO states it has served a copy of this filing upon the affected customers. In addition, the Midwest ISO states that it has electronically served a copy of this filing, with attachments, upon all Midwest ISO Members, Member representatives of Transmission Owners and Non-Transmission Owners, the Midwest ISO Advisory Committee participants, as well as all state commissions within the region. The Midwest also states that the filing has been electronically posted on the Midwest ISO's Web site at www.midwestiso.org under the heading “Filings to FERC” for other interested parties in this matter. The Midwest ISO will provide hard copies to any interested parties upon request.

Comment Date: November 13, 2003.

8. American Electric Power Service Corporation

[Docket No. ER04-73-000]

Take notice that on October 23, 2003, the American Electric Power Service Corporation (AEPSC) tendered for filing pursuant to Section 35.15 of the Federal Energy Regulatory Commission's regulations, 18 CFR Section 35.15, a Notice of Termination of an executed Facilities Agreement between Ohio Power Company and DPC Northeast Power, LLC. designated as Service Agreement No. 515 under American Electric Power Operating Companies' Open Access Transmission Tariff.

AEP requests an effective date of October 22, 2003. AEP states that a copy of the filing was served upon DPC Northeast Power LLC and the Public Utilities Commission of Ohio.

Comment Date: November 13, 2003.

9. PacifiCorp

Docket No. ER04-74-000.

Take notice that on October 24, 2003, PacifiCorp tendered for filing in accordance with 18 CFR 35 of the Commission's Rules and Regulations a Notice of Cancellation of PacifiCorp's Rate Schedule No. 343 with Alcoa Power Generating, Inc. (formerly known as Colockum Transmission Company) effective June 30, 2003.

PacifiCorp states that copies of this filing were supplied to Alcoa Power Generating, Inc. (formerly known as Colockum Transmission Company); Public Utility District No. 1 of Chelan County; the Washington Utilities and Transportation Commission and the Public Utility Commission of Oregon.

Comment Date: November 14, 2003.

10. Idaho Power Company

Docket No. ER04-75-000

Take notice that on October 24, 2003, Idaho Power Company (Idaho Power) tendered for filing with the Federal Energy Regulatory Commission a Contract Demand Notice relating to an agreement between Idaho Power and Seattle City Light, FERC Rate Schedule No. 72. Idaho Power seeks an effective date of January 1, 2004.

Comment Date: November 14, 2003.

11. Southern California Edison Company

[Docket No. ER04-76-000]

Take notice that on October 24, 2003, Southern California Edison Company (SCE) tendered for filing an Amended Interconnection Facilities Agreement (Amended Interconnection Agreement) and an Amended Service Agreement For Wholesale Distribution Service (Amended Service Agreement) between Whitewater Hill Wind Partners, LLC (Whitewater) and SCE. SCE states that the Amended Interconnection Agreement reflects the addition of terms and conditions to the Interconnection Agreement to provide for SCE to design, engineer, procure, construct, install, own, operate and maintain, and for Whitewater to pay for, the Distribution System Facilities and Reliability Upgrades associated with the Devers-Garnet-Windpark-Banning-Zanja 115 kV line reconfiguration. SCE states that the Amended Service Agreement reflects the increase in distribution system capacity made available to Whitewater and the change in the point of delivery which will occur upon the in-service date of the line reconfiguration.

SCE states that copies of this filing were served upon the Public Utilities Commission of the State of California and Whitewater.

Comment Date: November 14, 2003.

12. The Dayton Power and Light Company

[Docket No. ER04-77-000]

Take notice that on October 24, 2003, The Dayton Power and Light Company (Dayton), on behalf of Cincinnati Gas and Electric Company (CG&E) and Columbus Southern Power Company (CSP) tendered for filing an Interconnection Agreement between DP&L, CG&E, CSP and East Kentucky Power Cooperative.

Comment Date: November 14, 2003.

13. Wisconsin Electric Power Company and Wisconsin Public Service Corporation

[Docket No. ER04-78-000]

Take notice that on October 24, 2003, Wisconsin Electric Power Company (Wisconsin Electric) and Wisconsin Public Service Corporation (WPS) jointly tendered for filing: (1) Revised rate schedule sheets in the Control Area Operations Coordination Agreement between Wisconsin Electric and WPS designated as Wisconsin Electric's Rate Schedule FERC No. 99; and (2) a revised Control Area Operations Coordination Agreement between Wisconsin Electric and WPS designated as WPS' First Revised Rate Schedule FERC No. 63. Wisconsin Electric and WPS also jointly tendered cancellation documents to terminate Wisconsin Electric's Rate Schedule FERC No. 77 and WPS' Rate Schedule No. 54.

Wisconsin Electric and WPS request that the Commission waive its notice of filing requirements and allow the revised sheets in both agreements to become effective as of October 24, 2003. Wisconsin Electric and WPS also request that the Commission waive its notice of filing requirements and allow the remainder of the WPS Agreement and the cancellation documents to become effective January 1, 2001.

Wisconsin Electric an WPS state that copies of this filing have been served to the Public Service Commission of Wisconsin.

Comment Date: November 14, 2003.

14. American Electric Power Service Corporation

[Docket No. ER04-79-000]

Take notice that on October 24, 2003, the American Electric Power Service Corporation (AEPSC) tendered for filing a Facilities Agreement between Indiana Michigan Power Company and Covert Generating Company, LLC. AEPSC states that the agreement is pursuant to the AEP Companies' Open Access Transmission Service Tariff (OATT) that has been designated as the Operating Companies of the American Electric Power System FERC Electric Tariff, Third Revised Volume No. 6.

AEP requests an effective date of October 17, 2001. AEP states that a copy of the filing was served upon Covert Generating Company, LLC and the Indiana Utility Regulatory Commission, the Michigan Public Service Commission.

Comment Date: November 14, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E3-00182 Filed 11-04-03; 8:45 am]

BILLING CODE 6717-01-P